Proclamation 7358 of October 6, 2000

Leif Erikson Day, 2000

By the President of the United States of America

A Proclamation

This year, as we mark the beginning of a new millennium, we also celebrate the 1000th anniversary of Europe's first contact with North America. At the turn of the last millennium, the legendary explorer Leif Erikson—son of Iceland, grandson of Norway—sailed across the cold waters of the Atlantic from his home in Greenland to the eastern coast of North America, completing the first documented voyage of Europeans to the New World.

In the ensuing centuries, millions of other men and women followed the lead of these brave Vikings—some seeking riches, some seeking adventure, all in search of a new and better life. Families from Denmark, Finland, Iceland, Sweden, and Norway would make their new homes in communities like New Sweden, Delaware; Oslo, Minnesota; and Denmark, Iowa, bringing with them a reverence for freedom and a deep love of democracy that stemmed from their own egalitarian traditions. More than 10 million Americans today can trace their roots to the Nordic countries, and their family ties, traditions, and values have strengthened the warm friendship our Nation has always enjoyed with the people of Scandinavia.

In celebration of this friendship and our shared pride in Leif Erikson's exploits, Americans have joined with the Nordic countries to commemorate this special anniversary. The Smithsonian Institution sponsored a traveling exhibit earlier this year to highlight the Viking explorations of North America; the Library of Congress hosted an international symposium on the ancient texts of the Icelandic Sagas, many of which were displayed in the United States for the first time; and we joined Iceland in creating our first jointly issued coin to commemorate Leif Erikson's historic voyage.

These cultural initiatives reflect the strong ties and long history between the United States and the Nordic countries, and we continue to cooperate on many mutual goals. The Nordic countries are our full partners in the Northern Europe Initiative (NEI), which we launched in 1997 to build on the dramatic progress toward a free Europe that occurred following the break-up of the Soviet Union. Through the NEI, we are working together to promote democracy, stability, and prosperity in the Baltic nations and northwest Russia, to facilitate their fuller integration into Western institutions, and to cooperate on such cross-border issues as energy, health, law enforcement, and the environment. In addition, many of the best and brightest entrepreneurs in America and the Nordic countries are collaborating to encourage trade and the spread of innovative ideas and technologies around the world. Americans and Nordics alike value courage, independence, energy, and resourcefulness; working together in this new millennium, we are charting a new course for our people just as exciting and full of promise as the one Leif Erikson traveled a thousand years ago.

In honor of Leif Erikson and of our Nordic American heritage, the Congress, by joint resolution (Public Law 88-566) approved on September 2, 1964, has authorized and requested the President to proclaim October 9 of each year as ``Leif Erikson Day.''

NOW, THEREFORE, I, WILLIAM J. CLINTON, President of the United States of America, do hereby proclaim Monday, October 9, 2000, as Leif Erikson Day. I call upon all Americans to observe this day with appropriate ceremonies, activities, and programs to honor our rich Nordic American heritage.

IN WITNESS WHEREOF, I have hereunto set my hand this sixth day of October, in the year of our Lord two thousand, and of the Independence of the United States of America the two hundred and twenty-fifth.

wj

[FR Doc. 00-26396

Filed 10-11-00; 8:45 am]

Billing code 3195-01-P